DEPARTMENT OF COMMERCE

Foreign-Trade Zones Board

[B-72-2019]

Foreign-Trade Zone 122—Corpus Christi, Texas; Application for Subzone Cheniere Energy, Inc., Portland, Texas

An application has been submitted to the Foreign-Trade Zones (FTZ) Board by the Port of Corpus Christi Authority, grantee of FTZ 122, requesting subzone status for the facility of Cheniere Energy, Inc., located in Portland, Texas. The application was submitted pursuant to the provisions of the Foreign-Trade Zones Act, as amended (19 U.S.C. 81a-s81u), and the regulations of the FTZ Board (15 CFR part 400). It was formally docketed on November 25, 2019.

The proposed subzone (1,636.109 acres) is located at 2822 La Quinta Road in Portland, Texas. A notification of proposed production activity has been submitted and is being processed under 15 CFR 400.37 (Doc. B-66-2019).

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is January 13, 2020. Rebuttal comments in response to material submitted during the foregoing period may be submitted during the subsequent 15-day period to January 27, 2020.

A copy of the application will be available for public inspection in the “Reading Room” section of the FTZ Board's website, which is accessible via www.trade.gov/ftz.

For further information, contact Camille Evans at Camille.Evans@trade.gov or (202) 482-2350.

Dated: November 27, 2019.
Andrew McGilvray,
Executive Secretary.

[FR Doc. 2019-26150 Filed 12-2-19; 8:45 am]

BILLING CODE 3510-DS-P